ENVIRONMENTAL PROTECTION AGENCY

[ER-FRL-6690-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20070205, ERP No. D-AFS-L65537-WA. Tripod Fire Salvage Project, Proposal to Salvage Harvest Dead Trees and Fire-Injured Trees Expected to Die Within One Year, Methow Valley and Tonasket Ranger Districts, Okanogan and Wenatchee National Forests, Okanogan County, WA.

Summary: EPA does not object to the proposed project, but recommended expanding the purpose and need to include active restoration and monitoring survival of fire-damaged trees across the Tripod burn area to validate the proposed methodology for determining post fire tree mortality. Rating LO.

EIS No. 20070227, ERP No. D-NPS-K61166-CA. Golden Gate National Recreation Area, Proposed Marin Headlands and Fort Baker Transportation Infrastructure and Management Plan, Implementation, Marin County, CA.

Summary: EPA does not object with the proposed action. Rating LO.

EIS No. 20070239, ERP No. D-AFS-K65329-CA. Sugarberry Project, Proposes to Protect Rural Communities from Fire Hazards by Constructing Fuel Breaks Known as Defensible Fuel Profile Zones (DFPZs), Feather River Ranger District, Plumas National Forest, Plumas, Sierra, Yuba Counties, CA.

Summary: EPA expressed environmental concern about natural resource impacts, impacts to habitat fragmentation and cumulative effects. Rating EC2.

EIS No. 20070248, ERP No. D-SFW-F65068-WI. Trempealeau National Wildlife Refuge Comprehensive Conservation Plan, Implementation, located within the Mississippi River Valley, Buffalo and Trempealeau Counties, WI.

Summary: EPA does not object to the action as proposed. Rating LO.

EIS No. 20070257, ERP No. D-FHW-F40195-MN. Tier 1 DEIS—Trunk Highway (TH) 41 Minnesota River Crossing, Construction of a New Minnesota River Crossing Connecting U.S. Highway 169 to New US Highway 212, U.S. Army COE section 10 and 404 Permits, Scott and Carver Counties, MN.

Summary: EPA expressed environmental objections about impacts on calcareous fens and the low potential for successful mitigation. EPA also requested that a conceptual wetland mitigation plan be developed and included in the final EIS. Rating EO2.

Final EISs

EIS No. 20070249, ERP No. F-AFS-L65527-WA, Natapoc Ridge Restoration Project, To Improve Forest Health and Sustainability, and Reduce Wildfire and Hazardous Fuels, Wenatchee River Ranger District, Okanogan-Wenatchee National Forest, Chelan County, WA.

Summary: The Final EIS has addressed EPA's concerns about meeting the Aquatic Concervation Strategy objectives and sedimentation rates by including additional road improvements and aquatic resource mitigation measures.

EIS No. 20070259, ERP No. F-FHW-E40805-KY, Newtown Pike Extension Project, Road Connection from West Main Street to South Limestone Street in Lexington, Fayette County, KY

Summary: EPA expressed environmental concerns about impacts to floodplains. EPA is also concerned with hazardous waste remediation for contaminated soil as well as potentially significant cumulative impacts.

EIS No. 20070290, ERP No. F-RUS-H05025-MO, Norborne Baseload Power Plant, Proposed Construction and Operation of a 660-megawatt Net Coal-Fired Power Plant, Carroll County, MO

Summary: EPA continues to have environmental concerns about wetland/floodplain impacts and impacts from ozone. EPA requested additional analysis of these issues be included in the Record of Decision.

EIS No. 20070165, ERP No. FS-NRS-D36121-WV. Lost River Subwatershed of the Potomac River Watershed Project, Construction of Site 16 on Lower Cove Run and Deletion of Site 23 on Upper Cove Run, US Army COE Section 404 Permit, Hardy County, WV.

Summary: EPA continues to have environmental concerns about potential thermal impacts to area streams, as well as the lack of information regarding secondary and cumulative effects.

Dated: August 21, 2007.
Ken Mittelholtz,
Environmental Protection Specialist, Office of Federal Activities.

[FR Doc. E7-16824 Filed 8-23-07; 8:45 am]

BILLING CODE 6560-50-P